DEPARTMENT OF ENERGY

Federal Energy Regulatory Commission

[Docket No. CP96-248-011]

Portland Natural Gas Transmission System; Notice of Application To Amend Presidential Permit

June 23, 2003.

Take notice that on June 12, 2003, Portland Natural Gas Transmission System (PNGTS) filed an application pursuant to 18 CFR 153.16(b) to amend the Presidential Permit issued to PNGTS by the Commission's order issued on September 24, 1997 in this docket. PNGTS states that the proposed amendment would add to PNGTS's extant authority to transport gas from Canada to the United States by allowing PNGTS to transport natural gas through the existing PNGTS facilities from the United States to Canada. PNGTS states that no additional border facilities would be constructed to implement this requested change. PNGTS also states, that copies of this filing are on file with the Commission and are available for public inspection in the Public Reference Room. Any questions regarding this filing should be directed to David B. Morgan, Director, Marketing and Rates, Portland Natural Gas Transmission System, One Harbour Place, Suite 375, Portsmouth, New Hampshire 13801; or by telephone at (603) 559-5503 or FAX at (603)427-2807.

Any person desiring to be heard or to protest this filing should file a motion to intervene or protest with the Federal Energy Regulatory Commission in accordance with the Commission's Rules and Regulations 385.214 and 385.211. All such motions or protests must be filed on or before the comment date. Protests will be considered by the Commission in determining the appropriate action to be taken, but will not serve to make protestants parties to the proceeding. Any person wishing to become a party must file a motion to intervene. Comments, protests, and interventions may be filed electronically via the Internet in lieu of paper. See 18 CFR 385.2001(a)(1)(iii) and the instructions on the Commission's Web site under the “e-Filing” link. The Commission strongly encourages electronic filings.

Comment Date: June 30, 2003.

Magalie R. Salas,
Secretary.

[FR Doc. 03-16387 Filed 6-27-03; 8:45 am]

BILLING CODE 6717-01-P